DEPARTMENT OF TRANSPORTATION

Federal Aviation Administration

Proposed Advisory Circular 23-13A, Fatigue, Fail-Safe, and Damage Tolerance Evaluation of Metallic Structure for Part 23 Airplanes

AGENCY: Federal Aviation Administration (FAA), DOT.

ACTION: Notice of availability of proposed advisory circular AC 23-13A, and request for comments.

SUMMARY: This notice announces the availability of and requests comments on a proposed advisory circular, Advisory Circular (AC) 23-13A, Fatigue, Fail-Safe, and Damage Tolerance Evaluation of Metallic Structure for part 23 Airplanes. The AC provides information and guidance on acceptable means, but not the only means of compliance with Title 14 of the Code of Federal Regulations (14 CFR) part 23, applicable to fatigue, fail-safe, and damage tolerance evaluations of metallic structure in normal, utility, aerobatic, and commuter category airplanes. The proposed AC is a significant revision to the existing AC 23-13, incorporating a reader friendly question and answer format, updated guidance based on recent policy documents, and updated flight load spectra. The proposed AC also provides information on approval of continued operational flight with known cracks in the structure of small airplanes. Finally, it consolidates existing policy documents, and certain technical reports, into a single document. This notice is necessary to give all interested people an opportunity to present their views on the proposed AC.

DATES: Comments must be received on or before June 24, 2005.

ADDRESSES: If possible, please send your comments electronically to Michael.Reyer@faa.gov. Otherwise, send all comments on the proposed AC to: Federal Aviation Administration, Attention: Mr. Mike Reyer, ACE-111, 901 Locust, Kansas City, MO 64106. Comments may be inspected at the above address between 7:30 and 4 p.m. weekdays, except Federal holidays. All comments should contain the name and telephone number of the individual or company making the comment, the paragraph and page number that the comment references, the reason for comment, and the recommended resolution.

FOR FURTHER INFORMATION CONTACT: Mr. Mike Reyer, Standards Office, Small Airplane Directorate, Aircraft Certification Service, Kansas City, Missouri 64106, telephone (816) 329-4131, fax (816) 329-4090.

SUPPLEMENTARY INFORMATION:

Comments Invited

Interested people are invited to comment on the proposed AC by submitting such written data, views, or arguments as they may desire. Comments should identify AC number 23-13A. Send comments, in duplicate, to the address specified above. All communications received on or before the closing date for comments will be considered before issuing the final AC. The proposed AC can be found and downloaded from the Internet at http://www.faa.gov/certification/aircraft in a few days. A paper copy of the proposed AC may be obtained by contacting the person named above under the caption FOR FURTHER INFORMATION CONTACT.

Issued in Kansas City, Missouri on April 15, 2005.
Nancy C. Lane,
Acting Manager, Small Airplane Directorate, Aircraft Certification Service.

[FR Doc. 05-8137 Filed 4-22-05; 8:45 am]

BILLING CODE 4910-13-P